DEPARTMENT OF TRANSPORTATION

Federal Highway Administration

Notice of Final Federal Agency Actions on Proposed Highway in the State of Utah

AGENCY: Federal Highway Administration (FHWA), DOT.

ACTION: Notice of Limitation on Claims for Judicial Review of Actions by FHWA, and Other Federal Agencies.

SUMMARY: This notice announces actions taken by the FHWA, and other Federal agencies that are final within the meaning of 23 U.S.C. 139(l)(1). The actions relate to a proposed highway project, State Route (SR)-108 project from SR-127 (Antelope Drive) to SR-126 (1900 West) in the cities of Syracuse, West Point, Clinton, Roy, and West Haven, Utah in the Counties of Davis and Weber, State of Utah. Those actions grant licenses, permits, and approvals for the project.

DATES: By this notice, the FHWA is advising the public of final agency actions subject to 23 U.S.C. 139(l)(1). A claim seeking judicial review of the Federal agency actions on the highway project will be barred unless the claim is filed on or before June 15, 2009. If the Federal law that authorizes judicial review of a claim provides a time period of less than 180 days for filing such claim, then that shorter time period still applies.

FOR FURTHER INFORMATION CONTACT: Mr. Edward Woolford, Environmental Program Manager, Federal Highway Administration, 2520 West 4700 South, Suite 9A, Salt Lake City, UT 84118 between the hours of 7:30 a.m. and 5 p.m., (801) 963-0182, or by e-mail at Edward.Woolford@DOT.gov. You may also contact Mr. Randy Jefferies, Utah Department of Transportation, 166 W. Southwell Street, Ogden, Utah 84404, between the hours of 7 a.m. and 6 p.m. Monday through Thursday, (801) 612-4043 or by e-mail at rjefferies@utah.gov.

SUPPLEMENTARY INFORMATION: Notice is hereby given that the FHWA, and other Federal agencies have taken final agency actions subject to 23 U.S.C. 139(l)(1) by issuing licenses, permits, and approvals for the following highway project in the State of Utah: State Route (SR)-108 project from SR-127 (Antelope Drive) to SR-126 (1900 West) in the cities of Syracuse, West Point, Clinton, Roy, and West Haven, in Davis and Weber Counties, Utah (EIS Number: FHWA-UT-EIS-07-03-F).

The 9.5 mile project will construct a five-lane (110-foot) cross-section consisting of four 12-foot travel lanes, a 14-foot median (either a two-way left-turn lane or a raised center median), 8-foot shoulders, 4-foot bicycle lanes, 2.5-foot curb and gutter, 4.5-foot park strips, 4-foot sidewalks, and 1-foot between the back of the sidewalk and the edge of the right-of-way. Improve most intersections with dedicated right-turn and left-turn lanes. Dual left-turn lanes would be provided at 1700 South (southbound only), 1800 North, 5600 South, 4800 South, and 1900 West (eastbound only). Include enough shoulder width to accommodate bus service. Support bicycle use along SR-108 by providing Class II bicycle lanes.

The actions by the Federal agencies, and the laws under which such actions were taken, are described in the Final Environmental Impact Statement (FEIS) for the project, approved on August 20, 2008, in the FHWA Record of Decision (ROD) issued on October 29, 2008, and in other documents in the FHWA project records. The FEIS, ROD, and other project records are available by contacting FHWA or the UDOT at the addresses provided above. The FHWA FEIS and ROD can be viewed and downloaded from the project Web site at http://www.udot.utah.gov/sr108study, or viewed at public libraries in the project area.

This notice applies to all Federal agency decisions as of the issuance date of this notice and all laws under which such actions were taken, including but not limited to:

General: National Environmental Policy Act (NEPA) [42 U.S.C. 4321-4351]; Federal-Aid Highway Act [23 U.S.C. 109 and 23 U.S.C. 128]. Air: Clean Air Act [42 U.S.C. 7401-7671(q)]. Land: Section 4(f) of the Department of Transportation Act of 1966 [49 U.S.C. 303]; Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712]. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013]. Social and Economic: Civil Rights Act of 1964 [42 U.S.C. 2000(d)-2000(d)(1)]; American Indian Religious Freedom Act [42 U.S.C. 1996]; Farmland Protection Policy Act (FPPA) [7 U.S.C. 4201-4209]. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act, 42 U.S.C. 4001-4128. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: December 9, 2008.
Walter C. Waidelich, Jr.,
Division Administrator, Salt Lake City, Utah.

[FR Doc. E8-29585 Filed 12-12-08; 8:45 am]

BILLING CODE 4910-RY-P